MERIT SYSTEMS PROTECTION BOARD

Membership of the Merit Systems Protection Board's Senior Executive Service Performance Review Board

AGENCY: Merit Systems Protection Board.

ACTION: Notice.

SUMMARY: Notice is hereby given of the members of the Performance Review Board.

DATES: January 24, 2002.

FOR FURTHER INFORMATION CONTACT: Linda Nicholson, Personnel Officer, Merit Systems Protection Board, 1615 M Street, NW., Washington, DC 20419.

SUPPLEMENTARY INFORMATION: The Merit Systems Protection Board is publishing the names of the new and current members of the Performance Review Board (PRB) as required by 5 U.S.C. 4314(c)(4). P.J. Winzer, who will serve as Chair, and Barbara Wade have been appointed as new members. John Seal, Clyde B. Blandford, Jr., and Robert Lawshe will continue to serve as members of the PRB.

Dated: January 17, 2002.
Robert E. Taylor,
Clerk of the Board.

[FR Doc. 02-1676 Filed 1-23-02; 8:45 am]

BILLING CODE 7400-01-M